NUCLEAR REGULATORY COMMISSION

[Docket Nos. 50-438-CP, 50-439-CP; ASLBP No. 10-896-01-CP-BD01]

Tennessee Valley Authority; Establishment of Atomic Safety and Licensing Board

Pursuant to delegation by the Commission dated December 29, 1972, published in the Federal Register, 37 FR 28,710 (1972), and the Commission's regulations, see 10 CFR 2.104, 2.105, 2.300, 2.313, 2.318, and 2.321, notice is hereby given that an Atomic Safety and Licensing Board (Board) is being established to preside over the following proceeding:

Tennessee Valley Authority (Bellefonte Nuclear Plant, Units 1 and 2)

This proceeding concerns a Petition to Intervene submitted by the Blue Ridge Environment Defense League, its chapter Bellefonte Efficiency and Sustainability Team, and the Southern Alliance for Clean Energy in response to a Federal Register Notice published on March 13, 2009 (74 FR 10,969) stating that any person adversely affected by the Commission's determination to reinstate the construction permits for Bellefonte Nuclear Plant, Units 1 and 2, to be located in Jackson County, Alabama, may request a hearing. The scope of the hearing request “is limited to whether good cause exists for the reinstatement of the [construction permits]” (ibid.; see also In the Matter of Tennessee Valley Authority (Bellefonte Nuclear Plant, Units 1 and 2), CLI-10-06, 71 NRC _(slip op. at 6-7, 19 (Jan. 7, 2010))).

The Board is comprised of the following administrative judges:

G. Paul Bollwerk III, Chair, Atomic Safety and Licensing Board Panel, U.S. Nuclear Regulatory Commission, Washington, DC 20555-0001;

Dr. Anthony J. Baratta, Atomic Safety and Licensing Board Panel, U.S. Nuclear Regulatory Commission, Washington, DC 20555-0001;

Dr. William W. Sager, Atomic Safety and Licensing Board Panel, U.S. Nuclear Regulatory Commission, Washington, DC 20555-0001.

All correspondence, documents, and other materials shall be filed in accordance with the NRC E-filing rule, which the NRC promulgated in August 2007 (72 FR 49,139).

Issued at Rockville, Maryland, this 15th day of January 2010.
E. Roy Hawkens,
Chief Administrative Judge, Atomic Safety and Licensing Board Panel.

[FR Doc. 2010-1319 Filed 1-22-10; 8:45 am]

BILLING CODE 7590-01-P